SECURITIES AND EXCHANGE COMMISSION

[File No. 500-1]

MB Tech, Inc., Order of Suspension of Trading

September 30, 2008.

It appears to the Securities and Exchange Commission that there is a lack of current and accurate information concerning the securities of MB Tech, Inc., because it has not filed any periodic reports since the period ended June 30, 2006.

The Commission is of the opinion that the public interest and the protection of investors require a suspension of trading in the securities of MB Tech, Inc.

Therefore, it is ordered, pursuant to Section 12(k) of the Securities Exchange Act of 1934, that trading in the securities of MB Tech, Inc., is suspended for the period from 9:30 a.m. EDT on September 30, 2008, through 11:59 p.m. EDT on October 13, 2008.

By the Commission.
Florence E. Harmon,
Acting Secretary.

[FR Doc. E8-23378 Filed 9-30-08; 4:15 pm]

BILLING CODE 8011-01-P